NATIONAL AERONAUTICS AND SPACE ADMINISTRATION

[Notice (00-142)]

Notice of Prospective Patent License

AGENCY: National Aeronautics and Space Administration.

ACTION: Notice of Prospective Patent License.

SUMMARY: NASA hereby gives notice that the University of Houston, Houston, TX, has applied for a partially exclusive license to practice the invention described and claimed in U.S. Patent No. 5,780,186, entitled “High Performance Zinc Anode for Battery Applications.” Written objections to the prospective grant of a license should be sent to the Johnson Space Center.

DATES: Responses to this notice must be received by February 12, 2001.

FOR FURTHER INFORMATION CONTACT: James Cate, Patent Attorney, NASA Johnson Space Center, Mail Stop HA, Houston, TX 77058-8452; telephone (281) 483-1001.

Dated: December 7, 2000.
Edward A. Frankle,
General Counsel.

[FR Doc. 00-31872 Filed 12-13-00; 8:45 am]

BILLING CODE 7510-01-P